DEPARTMENT OF THE INTERIOR

National Park Service

[NPS-WASO-NAGPRA-NPS0035716; PPWOCRADN0-PCU00RP14.R50000]

Notice of Inventory Completion: University of Michigan, Ann Arbor, MI

AGENCY: National Park Service, Interior.

ACTION: Notice.

SUMMARY: The University of Michigan has completed an inventory of human remains, in consultation with the appropriate Indian Tribes or Native Hawaiian organizations, and has determined that there is a cultural affiliation between the human remains and a present-day Indian Tribes or Native Hawaiian organizations. Lineal descendants or representatives of any Indian Tribe or Native Hawaiian organization not identified in this notice that wish to request transfer of control of these human remains should submit a written request to the University of Michigan. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of Michigan at the address in this notice by May 26, 2023.

FOR FURTHER INFORMATION CONTACT: Dr. Ben Secunda, NAGPRA Project Manager, University of Michigan, Office of Research, 3003 South State St., First Floor, Wolverine Tower, Ann Arbor, MI 48109-1274, telephone (734) 615-8936, email bsecunda@umich.edu.

SUPPLEMENTARY INFORMATION: Notice is here given in accordance with the Native American Graves Protection and Repatriation Act (NAGPRA), 25 U.S.C. 3003, of the completion of an inventory of human remains under the control of the University of Michigan, Ann Arbor, MI. The human remains were removed from the Moundville site in Hale and Tuscaloosa Counties, AL.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Michigan professional staff in consultation with representatives of the Alabama-Coushatta Tribe of Texas; Alabama-Quassarte Tribal Town; Coushatta Tribe of Louisiana; Jena Band of Choctaw Indians; Miccosukee Tribe of Indians; Mississippi Band of Choctaw Indians; Poarch Band of Creek Indians; Seminole Tribe of Florida; The Chickasaw Nation; The Choctaw Nation of Oklahoma; The Muscogee (Creek) Nation; The Seminole Nation of Oklahoma; and the Thlopthlocco Tribal Town (hereafter referred to as “The Tribes”).

History and Description of the Human Remains

On an unknown date, human remains representing, at minimum, one individual were removed from the Moundville site (1TU500) in Hale and Tuscaloosa Counties, AL. The Moundville site is located near the Black Warrior River. The site consists of multiple mounds surrounding a central plaza, and includes both burial and habitation areas. It is owned and managed by the University of Alabama. First excavated in 1840, the site has been excavated numerous times by multiple individuals. While publications report that thousands of burials were disinterred and objects removed during these excavations, the University of Michigan Museum of Anthropological Archaeology (UMMAA) only possesses the ancestral human remains of a single individual. Not much is known regarding these ancestral human remains at the UMMAA. They were found in the osteological teaching collections during NAGPRA compliance work conducted in the early-1990s, at which time they were accessioned. To date, no records have been found describing when the ancestral human remains were disinterred or how they came into the possession of the UMMAA. The Museum's catalog book describes the ancestral human remains as from a “field near Mound M, Moundville, Hale Co, ALA 1HA48” and “burial 53.” The ancestral human remains are also labeled “Moundville, Ala. Field near Md M Burial 53.” The human remains belong to one adult of indeterminate sex. Based on general dating for the site, this individual was buried between A.D. 1050 and 1550. No known individual was identified. No associated funerary objects are present.

The human remains have been determined to be Native American based on accession documentation and archaeological context. A relationship of shared group identity can be reasonably traced between the Native American human remains from this site and the Muskogean peoples based on historical sources.

Determinations Made by the University of Michigan

Officials of the University of Michigan have determined that:

• Pursuant to 25 U.S.C. 3001(9), the human remains described in this notice represent the physical remains of one individual of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Dr. Ben Secunda, NAGPRA Project Manager, University of Michigan, Office of Research, 3003 South State St., First Floor, Wolverine Tower, Ann Arbor, MI 48109-1274, telephone (734) 615-8936, email bsecunda@umich.edu, by May 26, 2023. After that date, if no additional requestors have come forward, transfer of control of the human remains to The Tribes may proceed.

The University of Michigan is responsible for notifying The Tribes that this notice has been published.

Dated: April 19, 2023.
Melanie O'Brien,
Manager, National NAGPRA Program.

[FR Doc. 2023-08813 Filed 4-25-23; 8:45 am]

BILLING CODE 4312-52-P